DEPARTMENT OF THE INTERIOR

Bureau of Land Management

[MT-100-1220-AF]

Notice of Camping Limits on Public Lands in Montana, South Dakota & North Dakota

AGENCY: Bureau of Land Management, Interior.

ACTION: Notice.

SUMMARY: This notice consolidates and clarifies current stay limits on occupancy and/or property on public lands managed by the Bureau of Land Management (BLM) in Montana, North Dakota and South Dakota. Existing limits vary among field offices and states. This notice will establish stay limits on all public lands managed by the BLM as required by 43 CFR 8365 1-2. The proposed stay limits are necessary to protect the natural resources, provide public health, and to provide orderly, equal and consistent use for the public. These proposed stay limits will supersede all existing camping stay limits for BLM administered public lands in Montana, North Dakota & South Dakota published previously.

DATES: You should submit your comments within 30 days from the date of publication. In developing final rules, BLM may not consider comments postmarked or received in person or by electronic mail after this date.

ADDRESSES: You may mail or deliver comments on the proposed Notice to Bart Fitzgerald, Special Agent in Charge, Bureau of Land Management, Montana State Office, and 5001 Southgate Drive, Billings MT 59101. You may also comment by internet e-mail at the following address: MT_Billings_SO@blm.gov.

FOR FURTHER INFORMATION CONTACT: Bart Fitzgerald, Special Agent in Charge, Montana BLM State Office, 5001 Southgate Drive, Billings Montana 59101, (406) 896-5010.

SUPPLEMENTARY INFORMATION

Public Comment Procedures

Your comments on the proposed notice should be specific, should be confined to issues pertinent to the proposed supplementary rules, and should explain the reason for any recommended change or deviation from this proposal. Where possible, your comments should reference the specific section or paragraph of the proposal that you are addressing. BLM may not necessarily consider or include in the Administrative Record for the final comments that BLM receives after the close of the comment period (see DATES) or comments delivered to an address other than those listed above (see ADDRESSES).

The BLM will make your comments, including your name and address, available for public review at the Montana State Office address listed in ADDRESSES above during regular business hours (8 a.m. to 4:30 p.m., Monday through Friday, accept Federal holidays). Before including your address, phone number, e-mail address, or other personal identifying information in your comment, you should be aware that your entire comment—including your personal identifying information—may be made publicly available at any time. While you can ask us in your comment to withhold your personal identifying information from public review, we cannot guarantee that we will be able to do so.

The notice will apply to the public lands within the States of Montana, North Dakota and South Dakota. The significant change would be a limit of 14 days within a 30 day period as opposed to the existing 28 day period. This reflects recent changes made by other land management agencies and prevents 2 parties from occupying the same site indefinitely by simply moving every 14 days.

The proposed camping limits are being established in order to protect natural resources on public lands and provide fair and consistent use for all public land users. The action will prevent situations where users on public land occupy a site for long periods of time. Long tenure occupancies can result in negative impacts to the surrounding area such as: vegetation damage, erosion, and sanitation problems. Long tenure occupancies prevent other public land users from using popular sites and can promote abandonment of personal property. BLM's objective is to provide a quality recreation experience for all users with minimal conflict, to maintain an environment that is clean and healthy, and to reduce damage on the public lands and resources. In some specific areas that receive heavy use, BLM may develop, by Supplemental Rules, stay limits that vary from this notice. Those areas will be posted on site.

Definitions

Camping: The erecting of a tent or shelter, preparing a sleeping bag or other bedding material for use, parking of a motor vehicle, motor home or trailer, or mooring of a vessel for the apparent purpose of overnight occupancy.

Occupancy: Full or part-time residence on public lands. It also means activities that involve residence; the construction, presence, or maintenance of temporary or permanent structures that may be used for such purposes; or the use of a watchman or caretaker for the purpose of monitoring activities. Residence or structures include, but are not limited to, barriers to access, fences, tents, motor homes, trailers, cabins, houses, buildings, and storage of equipment or supplies.

You must follow these rules: In the absence of any site specific regulations or local supplemental rules, no person or associations of persons may occupy, camp or leave property or motor vehicles on public lands for more than 14 days within any period of 30 consecutive days. The 14-day limit may be reached either through a number of individual visits or through 14-days of continuous occupation during the 30-day interval. It is also prohibited to leave any personal property, whether attended or unattended, beyond the 14-day period. All personal property and refuse must be removed within the 30-day interval, even if the use of or actual camping at the site has ceased. A 30-day interval begins when a person initially occupies camps or leaves property at a site on public lands. Any camp relocation within the 30-day period shall not be within a 5 mile radius from the original site.

Under special circumstances and upon request, the authorized officer may issue written permits for extension of the 14-day limit.

Penalties

On all public lands, under Section 303(a) of the Federal Land Policy and Management Act of 1976, 43 U.S.C. 1733(a) and 43 CFR 8360.0-7, any person who violates any of these supplementary rules, closures or restrictions within the boundaries established in the rules may be tried before a United States Magistrate and fined no more than $1,000 or imprisoned for no more than 12 months, or both. Such violations may also be subject to the enhanced fines provided for by 18 U.S.C. 3571.

On public lands within grazing districts (43 U.S.C. 315) and grazing leased lands (43 U.S.C. 315m), under the Taylor Grazing Act, 43 U.S.C. 315(a), any person who violates any of these supplementary rules within the boundaries established in the rules may be tried before a United States Magistrate and fined no more than $500.00. Such violations may also be subject to the enhanced fines provided for by 18 U.S.C. 3571.

On public lands fitting the criteria in the Sikes Act, 16 U.S.C. 670j(a)(2), any person who violates any of these supplementary rules within the boundaries established in the rules may be tried before a United States Magistrate and fined no more than $500 or imprisoned for no more than six months, or both. Such violations may also be subject to the enhanced fines provided for by 18 U.S.C. 3571.

On public lands within Wild and Scenic River corridors (43 CFR 8351.2-1) any person who violates any of these supplementary rules within the boundaries established in the rules may be tried before a United States Magistrate and fined no more than $500 or imprisoned for no more than six months, or both. Such violations may also be subject to the enhanced fines provided for by 18 U.S.C. 3571.

Martin C. Ott,
Montana/Dakotas State Director, Bureau of Land Management.

[FR Doc. E7-7265 Filed 4-19-07; 8:45 am]

BILLING CODE 4310-$$-P